DEPARTMENT OF AGRICULTURE

7 CFR Part 800

Fees for Official Inspection and Official Weighing Services Under the United States Grain Standards Act (USGSA); Correction

AGENCY: Agricultural Marketing Service, USDA.

ACTION: Final rule; correcting amendment.

SUMMARY: This document corrects an error introduced into our regulations by a final rule that was published in the February 14, 2018, Federal Register. The final rule used the Roman numeral (v) consecutively in a table. This document corrects the table by renumbering the last six items in the table.

DATES: Effective date: March 16, 2018.

FOR FURTHER INFORMATION CONTACT: Denise Ruggles, FGIS Executive Program Analyst, USDA AMS; Telephone: (816) 659-8406; Email: Denise.M.Ruggles@ams.usda.gov.

SUPPLEMENTARY INFORMATION: In FR Doc. 2018-02884 appearing in the Federal Register of Wednesday, February 14, 2018 [83 FR 6451], the final rule used the Roman numeral (v) consecutively in § 800.71 table 3. This document corrects the Code of Federal Regulations by renumbering the last six items in the table.

List of Subjects in 7 CFR Part 800

Administrative practice and procedure, Exports, Grains, Reporting and recordkeeping requirements.

Accordingly, 7 CFR part 800 is corrected by making the following correcting amendments:

PART 800—GENERAL REGULATIONS

1. The authority citation for part 800 continues to read as follows:

Authority: 7 U.S.C. 71-87k.

§ 800.71 [Amended]

2. Section 800.71(a)(1) is amended in Table 3 of Schedule A by redesignating entries (vi) through (x) as entries (vii) through (xi) and redesignating the second entry for (v) as entry (vi).

Dated: March 12, 2018.
Greg Ibach,
Under Secretary, Marketing and Regulatory Programs.

[FR Doc. 2018-05315 Filed 3-15-18; 8:45 am]

BILLING CODE 3410-02-P